GENERAL SERVICES ADMINISTRATION

[OMB Control No. 3090-0324; Docket No. 2024-0001; Sequence No.14]

Information Collection; General Services Administration Acquisition Regulation; Foreign Ownership and Financing Representation for High-Security Leased Space

AGENCY: Office of Acquisition Policy, General Services Administration (GSA).

ACTION: Notice; request for comments.

SUMMARY: In accordance with the Paperwork Reduction Act of 1995, and the Office of Management and Budget (OMB) regulations, GSA invites the public to comment on an extension concerning disclosure of foreign ownership information under high-security lease space acquisitions.

DATES: Submit comments on or before November 25, 2024.

ADDRESSES: Submit comments on this information collection to https://www.regulations.gov. Submit comments via the Federal eRulemaking portal by searching for “Information Collection 3090-0324”. Select the link “Comment Now” that corresponds with Information Collection 3090-0324. Follow the instructions provided at the “Comment Now” screen. Please include your name, company name (if any), and “Information Collection 3090-0324” on your attached document.

Instructions: Please submit comments only and cite “Information Collection 3090-0324” in all correspondence related to this collection. Comments received generally will be posted without change to regulations.gov, including any personal and/or business confidential information provided. To confirm receipt of your comment(s), please check regulations.gov approximately two-to-three days after submission to verify posting.

FOR FURTHER INFORMATION CONTACT: Ms. Amy Lara, 816-589-3783, General Services Acquisition Policy Division, by email at gsarpolicy@gsa.gov.

SUPPLEMENTARY INFORMATION:

A. Purpose

The purpose of this information collection supports the implementation of the Secure Federal LEASEs Act (Pub. L. 116-276) to reduce security risks in high-security leased space. Section 3 of the bill requires agencies, before entering into a lease agreement for high-security leased space, to require the contractor to identify the immediate or highest-level owner of the space, including any financing entity, and disclose whether that owner is a foreign person or entity, including the country associated with the ownership entity.

This information collection covers GSA's implementation of the Act through GSAR clause 552.270-33. As this information is still required, GSA seeks to have this information collection extended for three years.

B. Annual Reporting Burden

The annual reporting burden is estimated as follows:

1. Initial Disclosure

Baseline Representation

Estimated annual responses: 542.

Estimated hours per response: 2.

Additional Representation

Estimated annual responses: 54.

Estimated hours per response: 10.

Total Initial Response Burden Hours: 1,624.

2. Annual Updates

Estimated annual responses: 542.

Estimated hours per response: 0.50.

Total Update Response Burden Hours: 271.

C. Public Comments

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Jeffrey A. Koses,
Senior Procurement Executive, Office of Acquisition Policy, Office of Government-wide Policy.

[FR Doc. 2024-21914 Filed 9-24-24; 8:45 am]

BILLING CODE 6820-61-P